DEPARTMENT OF DEFENSE

Department of the Army

Notice of Availability for Exclusive, Non-Exclusive, or Partially-Exclusive Licensing of an Invention Concerning Preoperative Recommendations Engine

AGENCY: Department of the Army, DoD.

ACTION: Notice.

SUMMARY: Announcement is made of the availability for licensing of the invention set forth in U.S. Provisional Patent Application Serial No. 61/849,910, entitled “Preoperative Recommendations Engine,” filed on January 14, 2013. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to a system that compiles patient-specific, evidenced-based perioperative recommendations for the consulting surgical specialist, and creates medication management instructions directly for the patients use. Its modular architecture is easily maintained and updated, assuring currency with cutting-edge perioperative practices. Its adoption facilitates the implementation of accepted best practices, potentially minimizing perioperative risk and optimizing surgical outcomes.

Brenda S. Bowen,
Army Federal Register Liaison Officer.

[FR Doc. 2013-30359 Filed 12-19-13; 8:45 am]

BILLING CODE 3710-08-P